DEPARTMENT OF TRANSPORTATION

Federal Aviation Administration

14 CFR Part 39

[Docket No. 2000-CE-12-AD]

RIN 2120-AA64

Airworthiness Directives; British Aerospace HP137 Mk1, Jetstream Series 200, and Jetstream Models 3101 and 3201 Airplanes

AGENCY: Federal Aviation Administration, DOT.

ACTION: Notice of proposed rulemaking (NPRM).

SUMMARY: This document proposes to adopt a new airworthiness directive (AD) that would apply to certain British Aerospace HP137 Mk1, Jetstream series 200, and Jetstream Models 3101 and 3201 airplanes. The proposed AD would require you to inspect the rudder quadrant support structure for cracks and correct D-washer installation; and would require you to replace any cracked component and replace any incorrectly installed D-washers. The proposed AD is the result of mandatory continuing airworthiness information (MCAI) issued by the airworthiness authority for the United Kingdom. The actions specified by the proposed AD are intended to detect, correct, and prevent further cracking in the rudder quadrant structure caused by incorrectly installed D-washers. Cracks in this structure could result in loss of rudder control with consequent airplane control problems.

DATES: The Federal Aviation Administration (FAA) must receive any comments on this proposed rule on or before September 15, 2000.

ADDRESSES: Submit comments in triplicate to the FAA, Central Region, Office of the Regional Counsel, Attention: Rules Docket No. 2000-CE-12-AD, 901 Locust, Room 506, Kansas City, Missouri 64106. Comments may be inspected at this location between 8 a.m. and 4 p.m., Monday through Friday, holidays excepted.

You may get the service information referenced in the proposed AD from British Aerospace Regional Aircraft, Prestwick International Airport, Ayrshire, KA9 2RW, Scotland; telephone: (01292) 479888; facsimile: (01292) 479703. You may examine this information at the Rules Docket at the address above.

FOR FURTHER INFORMATION CONTACT: Mr. S.M. Nagarajan, Aerospace Engineer, FAA, Small Airplane Directorate, 901 Locust, Room 301, Kansas City, Missouri 64106; telephone: (816) 329-4145; facsimile: (816) 329-4090.

SUPPLEMENTARY INFORMATION:

Comments Invited

How Do I Comment on the Proposed AD?

The FAA invites comments on this proposed rule. You may submit whatever written data, views, or arguments you choose. You need to include the rule's docket number and submit your comments in triplicate to the address specified under the caption ADDRESSES. The FAA will consider all comments received on or before the closing date. We may amend the proposed rule in light of comments received. Factual information that supports your ideas and suggestions is extremely helpful in evaluating the effectiveness of the proposed AD action and determining whether we need to take additional rulemaking action.

Are There Any Specific Portions of the AD I Should Pay Attention To?

The FAA specifically invites comments on the overall regulatory, economic, environmental, and energy aspects of the proposed rule that might suggest a need to modify the rule. You may examine all comments we receive before and after the closing date of the rule in the Rules Docket. We will file a report in the Rules Docket that summarizes each FAA contact with the public that concerns the substantive parts of the proposed AD.

We are re-examining the writing style we currently use in regulatory documents, in response to the Presidential memorandum of June 1, 1998. That memorandum requires federal agencies to communicate more clearly with the public. We are interested in your comments on whether the style of this document is clearer, and any other suggestions you might have to improve the clarity of FAA communications that affect you. You can get more information about the Presidential memorandum and the plain language initiative at http://www.plainlanguage.gov.

How Can I Be Sure FAA Receives My Comment?

If you want us to acknowledge the receipt of your comments, you must include a self-addressed, stamped postcard. On the postcard, write “Comments to Docket No. 2000-CE-12-AD.” We will date stamp and mail the postcard back to you.

Discussion

What Events Have Caused This Proposed AD?

The Civil Aviation Authority (CAA), which is the airworthiness authority for the United Kingdom, recently notified the FAA that an unsafe condition may exist on certain British Aerospace HP137 Mk1, Jetstream series 200, and Jetstream Models 3101 and 3201 airplanes. The CAA reports two incidents of cracks in the upper edge member radii and bottom diaphragm radii of the rudder quadrant support structure.

Investigation of these incidents revealed that the D-washers in the rudder quadrant support structure were installed incorrectly. These D-washers, when installed correctly, are designed to reinforce the bend radii of the affected structure.

What Are the Consequences if the Condition Is Not Corrected?

Cracks in the rudder quadrant support structure, if not detected and corrected, could result in loss of rudder control with consequent airplane control problems.

Is There Service Information That Applies to This Subject?

British Aerospace has issued Mandatory Alert Service Bulletin 53-JA-990842, Revision 1, dated February 21, 2000.

What Are the Provisions of This Service Bulletin?

The service bulletin describes procedures for:

—inspecting the upper edge member and bottom diaphragm of the rudder quadrant support structure for cracks and correct D-washer installation;

—replacing any component with cracks in it; and

—replacing any incorrectly installed D-washers.

What Action Did the CAA Take?

The CAA classified this service bulletin as mandatory and issued British AD Number 006-12-99 in order to assure the continued airworthiness of these airplanes in the United Kingdom.

Was This in Accordance With the Bilateral Airworthiness Agreement?

These airplane models are manufactured in the United Kingdom and are type certificated for operation in the United States under the provisions of section 21.29 of the Federal Aviation Regulations (14 CFR 21.29) and the applicable bilateral airworthiness agreement. Pursuant to this bilateral airworthiness agreement, the CAA has kept the FAA informed of the situation described above.

The FAA's Determination and an Explanation of the Provisions of the Proposed AD

What Has FAA Decided?

The FAA has examined the findings of the CAA; reviewed all available information, including the service information referenced above; and determined that:

—The unsafe condition referenced in this document exists or could develop on other British Aerospace HP137 Mk1, Jetstream series 200, and Jetstream Models 3101 and 3201 airplanes of the same type design;

—The actions specified in the above-referenced service bulletin should be incorporated on these airplanes; and

—AD action should be taken in order to correct this unsafe condition.

What Does This Proposed AD Require?

This proposed AD would require you to inspect the rudder quadrant support structure for cracks and correct D-washer installation; and would require you to replace any cracked component and replace any incorrectly installed D-washers.

Compliance Time

What Is the Compliance Time of the Proposed AD?

The compliance time of this proposed AD would be “within 90 calendar days after the effective date of this AD.”

Why Is the Compliance in Calendar Time Instead of Hours Time-in-Service (TIS)?

The cracks in the rudder quadrant support structure occur as a direct result of airplane operation if the D-washers are incorrectly installed. Because the D-washers could have been incorrectly installed in the field or at the factory, the problem has the same chance of occurring on an airplane with 50 hours TIS as one with 5,000 hours TIS. Therefore, we believe that 90 calendar days will:

—Assure that the unsafe condition does not go undetected for a long period of time on the affected airplanes; and

—Will not inadvertently ground any of the affected airplanes.

Cost Impact

How Many Airplanes Does This Proposed AD Impact?

We estimate that the proposed AD would affect 264 airplanes in the U.S. registry.

What Is the Cost Impact of the Proposed Actions for the Affected Airplanes on the U.S. Register?

We estimate that it would take approximately 1 workhour per airplane to accomplish the proposed inspection of the rudder quadrant support structure and the D-washers, at an average labor rate of $60 an hour. Based on the figures presented above, the total cost impact of the proposed inspection on U.S. operators is estimated to be $15,840, or $60 per airplane.

Costs for any necessary replacements are as follows:

Action | No. of workhours | Parts cost | Total cost per airplane
Right upper edge member replacement | 8 workhours at $60 per hour | $514 | $994
Lower diaphragm replacement | 8 workhours at $60 per hour | 760 | 1240
D-washer replacement | 4 workhours at $60 per hour | 250 | 490

Regulatory Impact

How Does This Proposed AD Impact Various Entities?

The regulations proposed herein would not have a substantial direct effect on the States, on the relationship between the national government and the States, or on the distribution of power and responsibilities among the various levels of government. Therefore, it is determined that this proposed rule would not have federalism implications under Executive Order 13132.

Does This Proposed AD Involve a Significant Rule or Regulatory Action?

For the reasons discussed above, I certify that this proposed action (1) is not a “significant regulatory action” under Executive Order 12866; (2) is not a “significant rule” under DOT Regulatory Policies and Procedures (44 FR 11034, February 26, 1979); and (3) if promulgated, will not have a significant economic impact, positive or negative, on a substantial number of small entities under the criteria of the Regulatory Flexibility Act. A copy of the draft regulatory evaluation prepared for this action has been placed in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive (AD) to read as follows:

British Aerospace: Docket No. 2000-CE-12-AD.

(a) What airplanes are affected by this AD? HP137 Mk1, Jetstream Series 200, and Jetstream Models 3101 and 3201 airplanes, all serial numbers excluding 936 and 940, certificated in any category.

(b) Who must comply with this AD? Anyone who wishes to operate any of the above airplanes on the U.S. Register must comply with this AD.

(c) What problem does this AD address? The actions specified by this AD are intended to detect, correct, and prevent further cracking in the rudder quadrant structure caused by incorrectly installed D-washers. Cracks in this structure could result in loss of rudder control with consequent airplane control problems.

(d) What must I do to address this problem? To address this problem, you must accomplish the following actions:

Actions | Compliance times | Procedures
(1) Inspect the upper edge member radi and bottom diaphragm radii adjacent to the rudder artificial feel assembly attachments at the rudder quadrant support for cracks and inspect the D-washers to assure correct installation | Within 90 calendar days after the effective date of this AD | Accomplish in accordance with the “ACCOMPLISHMENT INSTRUCTIONS: Part 1—Inspection” section of British Aerospace Mandatory Alert Service Bulletin 53-JA-990842, Revision 1, dated February 21, 2000.
(2) If cracks are found in the area of the upper edge member radii on the rudder quadrant support structure, replace this component by incorporating material Kit No. ‘53-JA-990842PT2’ | Before further flight after the inspection where the cracked part was detected | Accomplish in accordance with the “ACCOMPLISHMENT INSTRUCTIONS: Part 2—Replacement of the right upper edge member if cracks are found at Part 1” section of British Aerospace Mandatory Alert Service Bulletin 53-JA-990842, Revision 1, dated February 21, 2000.
(3) If cracks are found in the area of the bottom diaphragm on the rudder quadrant support structure, replace this component by incorporating material Kit No. ‘53-JA-990842PT3’ | Before further flight after the inspection where the cracked part was detected | Accomplish in accordance with the “ACCOMPLISHMENT INSTRUCTIONS: Part 3—Replacement of the bottom diaphragm of the rudder quadrant support structure” section of British Aerospace Mandatory Alert Service Bulletin 53-JA-990842, Revision 1, dated February 21, 2000.
(4) Remove any incorrectly installed D-washer and replace with a new D-washer. This replacement is accomplished by incorporating material Kit No. ‘53-JA-990842PT4’ | Before further flight after the inspection where the incorrect installation was detected | Accomplish in accordance with the “ACCOMPLISHMENT INSTRUCTIONS: Part 4—Removal and replacement of D-washers” section of British Aerospace Mandatory Alert Service Bulletin 53-JA-990842, Revision 1, dated February 21, 2000.

(e) Can I comply with this AD in any other way? You may use an alternative method of compliance or adjust the compliance time if:

(1) Your alternative method of compliance provides an equivalent level of safety; and

(2) The Manager, Small Airplane Directorate approves your alternative. Submit your request through an FAA Principal Maintenance Inspector, who may add comments and then send it to the Manager, Small Airplane Directorate, 901 Locust, Room 301, Kansas City, Missouri 64106.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? You may contact S.M. Nagarajan, Aerospace Engineer, FAA, Small Airplane Directorate, 901 Locust, Room 301, Kansas City, Missouri 64106; telephone: (816) 329-4145; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) How do I get copies of the documents referenced in this AD? You may obtain copies of the documents referenced in this AD from British Aerospace Regional Aircraft, Prestwick International Airport, Ayrshire, KA9 2RW, Scotland; telephone: (01292) 479888; facsimile: (01292) 479703. Or may examine this document at FAA, Central Region, Office of the Regional Counsel, 901 Locust, Room 506, Kansas City, Missouri 64106.

Note: The subject of this AD is addressed in British AD Number 006-12-99.

Issued in Kansas City, Missouri, on August 3, 2000.
Michael Gallagher,
Manager, Small Airplane Directorate, Aircraft Certification Service.

[FR Doc. 00-20250 Filed 8-9-00; 8:45 am]

BILLING CODE 4910-13-P